DEPARTMENT OF DEFENSE

Department of the Army

Notice of Availability of the Draft Environmental Impact Statement (DEIS) for the Disposal and Reuse of Fort McPherson, Georgia

AGENCY: Department of the Army, DoD.

ACTION: Notice of Availability (NOA).

SUMMARY: The U.S. Army announces the availability of the DEIS, which evaluates the potential environmental and socioeconomic impacts of the disposal and reuse of Fort McPherson, Georgia, pursuant to the 2005 Base Realignment and Closure (BRAC) Commission recommendation.

DATES: The public comment period for the DEIS will end 45 days after publication of an NOA in the Federal Register by the U.S. Environmental Protection Agency.

ADDRESSES: Please send written comments on the DEIS to: Victor Bonilla, BRAC Environmental Division, 2053 North D Avenue, Building 400, Fort Gillem, GA 302975161. E-mail comments should be sent to victor.manuel.bonilla@conus.us.army.mil.

FOR FURTHER INFORMATION CONTACT: Mr. Victor Bonilla, BRAC Environmental Division by telephone at (404) 469-3557, or by e-mail at the above address.

SUPPLEMENTARY INFORMATION: The 2005 BRAC Commission recommended the closure of Fort McPherson no later than 15 September 2011 and the relocation of tenant headquarters organizations to Fort Sam Houston, Texas; Fort Eustis, Virginia; Fort Bragg/Pope Air Force Base, North Carolina; and Shaw Air Force Base, South Carolina. The actions at those places are subject to separate NEPA analysis.

Following closure, the property (approximately 487 acres) will be excess to Army needs. Accordingly, the Army proposes to dispose of its real property interests at Fort McPherson. The Army has recognized the McPherson Planning Local Redevelopment Authority (MPLRA) as the local reuse authority for reuse planning associated with Fort McPherson. The MPLRA released the Fort McPherson Outreach and Land Use Plan in September 2007. The plan is available electronically at http://www.mcphersonredevelopment.corn/comprehensive_reuse.html.

The DES analyzed four alternatives: (1) Early Transfer—under which transfer and reuse of the property would occur before environmental remedial action has been completed; (2) Traditional Disposal—under which transfer and reuse of the property would occur once environmental remediation is complete for individual parcels of the installation; (3) Caretaker Status—would begin following the closure of the installation in the event that the Army is unable to dispose of the property. The maintenance of the property would be reduced to minimal activities necessary to ensure security, health, and safety, and to avoid physical deterioration of facilities; and (4) No Action, under which the Army would continue operations at Fort McPherson at levels similar to those occurring prior to the BRAC Commission's recommendation for closure. Three reuse scenarios, based on medium, medium-high, and high intensity levels of reuse, are evaluated as secondary actions of disposal of Fort McPherson. These reuse scenarios encompass the level of reuse expected under the MPLRA's reuse plan and higher and lower levels of reuse.

For either of the transfer alternatives, moderate adverse effects would be expected to occur to aesthetics and visual resources, noise, water resources, biological resources, cultural resources, transportation, and utilities. Reuse analyzed in the DEIS could result in significant adverse effects in the areas of land use, air quality, socioeconomics, transportation, and utilities. The McPherson Implementation Redevelopment Authority is authorized to redevelop the installation in accordance with the Reuse Plan. Disposal of the property for reuse in accordance with the Reuse Plan would mitigate to less than significant the direct and cumulative impacts of disposal and reuse.

The Army invites the public, tribal governments, local governments, and state and federal agencies to submit written comments or suggestions concerning the alternatives and analyses presented in the DEIS. The public and government agencies also are invited to participate in a public meeting where oral and written comments and suggestions will be received. A public meeting will be held at a convenient location near Fort McPherson. The date, time, and location will be announced in the local news media. Copies of the DEIS will be available for review at several local libraries prior to the public meeting. The DEIS may also be viewed at http://www.mcphersonredevelopment.org and http://www.hqda.army.mil/acsim/bractnepa_eis_docs.htm.

Addison D. Davis, IV,
Deputy Assistant Secretary of the Army (Environment, Safety and Occupational Health).

[FR Doc. E8-23990 Filed 10-9-08; 8:45 am]

BILLING CODE 3710-08-M